DEPARTMENT OF TRANSPORTATION

Federal Aviation Administration

Notice of Availability of a Written Re-evaluation of an Environmental Assessment and Finding of No Significant Impact/Record of Decision (FONSI/ROD) for the Evaluation of New Information Regarding a New Memorandum of Agreement Executed by the Federal Aviation Administration, Michigan State Historic Preservation Officer, and Lenawee County for the Lenawee County Airport located in Adrian, MI

AGENCY: Federal Aviation Administration, DOT.

ACTION: Notice of availability of a Written Re-evaluation of an Environmental Assessment and FONSI/ROD for the evaluation of new information regarding a new Memorandum of Agreement executed by the Federal Aviation Administration, Michigan State Historic Preservation Officer, and Lenawee County for the Lenawee County Airport located in Adrian, Michigan.

SUMMARY: The Federal Aviation Administration (FAA) is making available a written Re-evaluation of an Environmental Assessment and FONSI/ROD for the evaluation of a new Memorandum of Agreement executed by the Federal Aviation Administration, Michigan State Historic Preservation Officer, and Lenawee County for the Lenawee County Airport located in Adrian, Michigan.

Point of Contact: Mr. Brad Davidson, Environmental Protection Specialist, FAA Great Lakes Region, Detroit Airports District Office, 11677 South Wayne Road, Suite 107, Romulus, MI 48174 (734) 229-2900.

SUPPLEMENTARY INFORMATION: The FAA is making available a Written Re-evaluation of an Environmental Assessment and FONSI/ROD for the evaluation of a new Memorandum of Agreement executed by the Federal Aviation Administration, Michigan State Historic Preservation Officer, and Lenawee County for the Lenawee County Airport located in Adrian, Michigan. The purpose of the FONSI/ROD and Written Re-evaluation was to evaluate potential environmental impacts arising from the preparation and execution of a Memorandum of Agreement between the Federal Aviation Administration, Michigan State Historic Preservation Officer, and Lenawee County.

These documents will be available during normal business hours at the following locations: FAA Detroit Airports District Office, 11677 South Wayne Road, Suite 107, Romulus, MI 48174 Due to current security requirements, arrangements must be made with the point of contact prior to visiting this office.

Issued in Detroit, Michigan, October 27, 2004.
Irene R. Porter,
Manager, Detroit Airport District Office, FAA, Great Lakes Region.

[FR Doc. 04-24853 Filed 11-5-04; 8:45 am]

BILLING CODE 4910-13-M